ENVIRONMENTAL PROTECTION AGENCY

[EPA-HQ-OAR-2003-0078; FRL-9623-5]

Agency Information Collection Activities; Proposed Collection; Comment Request; Reporting Under EPA's Landfill Methane Outreach Program; EPA ICR No. 1849.06

AGENCY: Environmental Protection Agency (EPA).

ACTION: Notice.

SUMMARY: In compliance with the Paperwork Reduction Act (PRA) (44 U.S.C. 3501 et seq.), this document announces that EPA is planning to submit a request to renew an existing approved Information Collection Request (ICR) to the Office of Management and Budget (OMB). This ICR is scheduled to expire on 04/30/2012. Before submitting the ICR to OMB for review and approval, EPA is soliciting comments on specific aspects of the proposed information collection as described below.

DATES: Comments must be submitted on or before March 27, 2012.

ADDRESSES: Submit your comments, identified by Docket ID No. EPA-HQ-OAR-2003-0078 by one of the following methods:

• http://www.regulations.gov: Follow the online instructions for submitting comments.

• Email: a-and-r-Docket@epa.gov.

• Fax Number: (202) 566-9744.

• Phone Number: (202) 566-1742.

• Mail: Docket ID No. EPA-HQ-OAR-2003-0078, Environmental Protection Agency, Mailcode: 2822T, 1200 Pennsylvania Ave. NW., Washington, DC 20460.

• Hand Delivery: EPA Docket Center, 1301 Constitution Ave. NW., Room 3334, Washington, DC 20460 (Attention Docket ID No. EPA-HQ-OAR-2003-0078). Such deliveries are only accepted during the Docket's normal hours of operation, and special arrangements should be made for deliveries of boxed information.

Instructions: Direct your comments to Docket ID No. EPA-HQ-OAR-2003-0078. EPA's policy is that all comments received will be included in the public docket without change and may be made available on line at http://www.regulations.gov, including any personal information provided, unless the comment includes information claimed to be Confidential Business Information (CBI) or other information whose disclosure is restricted by statute. Do not submit information that you consider to be CBI or otherwise protected through http://www.regulations.gov or email. The http://www.regulations.gov Web site is an “anonymous access” system, which means EPA will not know your identity or contact information unless you provide it in the body of your comment. If you send an email comment directly to EPA without going through http://www.regulations.gov your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/dockets/index.htm.

FOR FURTHER INFORMATION CONTACT: Victoria Ludwig, Climate Change Division, Office of Atmospheric Programs, 6207J, Environmental Protection Agency, 1200 Pennsylvania Avenue NW., Washington, DC 20460; telephone number: (202) 343-9291; fax number: (202) 343-2202; email address: ludwig.victoria@epa.gov.

SUPPLEMENTARY INFORMATION:

How can I access the docket and/or submit comments?

EPA has established a public docket for this ICR under Docket ID No. EPA-HQ-OAR-2003-0078, which is available for online viewing at http://www.regulations.gov, or in person viewing at the Air and Radiation Docket in the EPA Docket Center (EPA/DC), EPA West, Room 3334, 1301 Constitution Ave. NW., Washington, DC. The EPA/DC Public Reading Room is open from 8 a.m. to 4:30 p.m., Monday through Friday, excluding legal holidays. The telephone number for the Reading Room is (202) 566-1744, and the telephone number for the Air and Radiation Docket is (202) 566-1742.

Use http://www.regulations.gov to obtain a copy of the existing approved Information Collection Request EPA ICR No. 1849.05, submit or view public comments, access the index listing of the contents of the docket, and access those documents in the public docket that are available electronically. Once in the system, select “search,” then key in the docket ID number identified in this document.

What information is EPA particularly interested in?

Pursuant to section 3506(c)(2)(A) of the PRA, EPA specifically solicits comments and information to enable it to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

What should I consider when I prepare my comments for EPA?

You may find the following suggestions helpful for preparing your comments:

(1) Explain your views as clearly as possible and provide specific examples.

(2) Describe any assumptions that you used.

(3) Provide copies of any technical information and/or data you used that support your views.

(4) If you estimate potential burden or costs, explain how you arrived at the estimate that you provide.

(5) Offer alternative ways to improve the collection activity.

(6) Make sure to submit your comments by the deadline identified under DATES.

(7) To ensure proper receipt by EPA, be sure to identify the docket ID number assigned to this action in the subject line on the first page of your response. You may also provide the name, date, and Federal Register citation.

What information collection activity or ICR does this apply to?

Affected entities: Entities potentially affected by this action are those private companies and municipalities that own or operate landfills; manufacturers and suppliers of equipment/knowledge to capture and utilize landfill gas; utility companies; end users of energy from landfills; developers of landfill gas energy projects; State agencies; and other landfill gas energy stakeholders.

Title: Reporting Under EPA's Landfill Methane Outreach Program.

ICR Numbers: EPA ICR Number 1849.06, OMB Control Number 2060-0446.

ICR Status: This ICR will expire on 4/30/12. An Agency may not conduct or sponsor, and a person is not required to respond to, a collection of information, unless it displays a currently valid OMB control number. The OMB control numbers for EPA's regulations in Title 40 of the CFR, after appearing in the Federal Register when approved, are listed in 40 CFR part 9, and are displayed either by publication in the Federal Register or by other appropriate means, such as on the related collection instrument or form, if applicable. The display of OMB control numbers in certain EPA regulations is consolidated in 40 CFR part 9.

Abstract: The Landfill Methane Outreach Program (LMOP), created by EPA as part of the Climate Change Action Plan, is a voluntary program designed to encourage and facilitate the development of environmentally and economically sound landfill gas (LFG) energy projects across the United States in order to reduce methane emissions from landfills. LMOP does this by educating local governments and communities about the benefits of LFG recovery and use; building partnerships between state agencies, industry, energy service providers, local communities, and other stakeholders interested in developing this valuable resource in their community; and providing tools to evaluate LFG energy potential. LMOP signs voluntary Memoranda of Understanding (MOUs) with these organizations to enlist their support in promoting cost-effective LFG utilization. The information collection includes completion and submission of the MOU, and annual completion and submission of information forms that include basic information on landfill methane projects with which the organizations are involved as an effort to update the LMOP Landfill and Landfill Gas Energy Project Database. The information collection is to be utilized to maintain up-to-date data and information about LMOP Partners and landfill methane projects with which they are involved. The data will also be used by the public to assess LFG energy project development opportunities in the United States. In addition, the information collection will assist LMOP in evaluating the reduction of methane emissions from landfills. Responses to the information collection are voluntary.

Burden Statement: The annual public reporting and recordkeeping burden for this collection of information is estimated to average 3.2 hours for each respondent. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

The ICR provides a detailed explanation of the Agency's estimate, which is only briefly summarized here:

• Estimated total number of potential respondents: An average of 1,220 existing Partners and an additional 113 new Partners per year.

• Frequency of response: On occasion.

• Estimated total average number of responses for each respondent: 1.8 responses per new respondent and 0.8 responses per existing respondent.

• Estimated total annual burden hours: 4,215 hours.

• Estimated total annual costs: $334,298 per year. This includes an estimated burden cost of $333,959 and an estimated cost of $339 for maintenance and operational costs.

Are there changes in the estimates from the last approval?

There is a decrease of 1,670 hours in the total estimated annual respondent burden and a decrease in average annual burden per respondent of 1.5 hours compared with the burdens identified in the existing ICR approved by OMB. The existing approved ICR included a one-time, large-scale outreach to 1,000 additional landfill owners and operators. This activity and group of entities are not included in the scope of this ICR renewal, resulting in the overall decreases in total hours and hours per respondent. This change is the result of a program change. However, in the last approved ICR, Energy Partners were not requested to update landfill gas energy project data, and under this renewal, Energy Partners will be requested to provide updates on their involvement in these projects. Also, there has been growth in the number of overall Partners since the last renewal. There were 675 Partners as of July 2007, whereas there are 994 Partners as of September 2011, a 47 percent increase in four years. These changes offset the magnitude of the overall burden decrease. There have been no major changes in how the information forms or MOU are dispersed or collected since the last renewal. LMOP has previously implemented simplifications and other changes to increase the efficiency of its ICR process.

What is the next step in the process for this ICR?

EPA will consider the comments received and amend the ICR as appropriate. EPA's policy is that all comments received will be included in the public docket without change and may be made available on line at http://www.regulations.gov. EPA's responses to any comments received will also be included in the public docket, as part of the supporting statement document. The final ICR package will then be submitted to OMB for review and approval pursuant to 5 CFR 1320.12. At that time, EPA will issue another Federal Register notice pursuant to 5 CFR 1320.5(a)(1)(iv) to announce the submission of the ICR to OMB and the opportunity to submit additional comments to OMB. If you have any questions about this ICR or the approval process, please contact the technical person listed under FOR FURTHER INFORMATION CONTACT.

Dated: January 19, 2012.
Rona Birnbaum,
Acting Director, Climate Change Division.

[FR Doc. 2012-1821 Filed 1-26-12; 8:45 am]

BILLING CODE 6560-50-P